DEPARTMENT OF TRANSPORTATION

Federal Railroad Administration

[Docket Number FRA-2015-0114]

Petition for Waiver of Compliance

In accordance with part 211 of Title 49 of Code of Federal Regulations (CFR), this document provides the public notice that by a document dated September 29, 2015, the Graham-White Company (Graham-White) has petitioned the Federal Railroad Administration (FRA) for a waiver of compliance from certain provisions of the Federal railroad safety regulations contained at 49 CFR 231.27. FRA assigned the petition Docket Number FRA-2015-0114.

Graham-White manufactures electric locomotive parking brakes. The Graham White design provides transmission of torque from the hand wheel into the input shaft of the brake through a key that engages the hand wheel hub and the input shaft. Title 49 CFR 231.27(a)(2) requires the hand brake wheel be affixed to the input shaft using a square taper fit not less than seven-eighths of an inch square. A Graham-White technical analysis report demonstrates that the company's design provides the same degree of safety or a greater degree of safety than that specified in 49 CFR 231.27. Graham-White is requesting relief from the hand brake shaft square taper fit regulation, as stipulated in 49 CFR 231 Plate A, to allow the key and shaft design currently in service on Graham-White electric parking hand brakes.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by December 24, 2015 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL—14 FDMS), which can be reviewed at www.dot.gov/privacy. See also http://www.regulations.gov/#!privacyNotice for the privacy notice of regulations.gov.

Issued in Washington, DC, on November 3, 2015.
Ron Hynes,
Director, Office of Technical Oversight.

[FR Doc. 2015-28363 Filed 11-6-15; 8:45 am]

BILLING CODE 4910-06-P